DEPARTMENT OF HOUSING AND URBAN DEVELOPMENT

[Docket No. FR-4652-N-11]

Notice of Proposed Information Collection for Public Comment—Procedure for Obtaining Certificates of Insurance for Capital Program Projects

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: July 23, 2001.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Procedure for Obtaining Certificates of Insurance for Capital Program Projects.

OMB Control Number: 2477-0046.

Description of the need for the information and proposed use: HUD requires Housing Agencies (Has) to obtain certificates of insurance from contractors and subcontractors before beginning work under either the development of a new low-income housing project or the modernization of an existing project. The certificates of insurance provide evidence that worker's compensation and general liability, automobile liability insurance, is in force before any construction work is started.

Agency form numbers, if applicable: None.

Members of affected public: State or Local Government Public Housing Agencies.

Estimation of the total number of hours needed to prepare the information collection including number of respondents, frequency of response, and hours of response: 3,000 respondents, 4 responses per respondent, 12, 000 total responses, .50 average hours per response, 6,000 hours for the reporting burden, 6,000 hours for the recordkeeping burden, 12,000 hours total burden.

Status of the proposed information collection: Extension.

Authority: Section 3506 of the Paperwork Reduction Act of 1995, 44 U.S.C. Chapter 35, as amended.

Dated: May 15, 2001.
Gloria Cousar,
Acting General Deputy Assistant Secretary for Public and Indian Housing.

[FR Doc. 01-12795 Filed 5-21-01; 8:45 am]

BILLING CODE 4210-33-M